DEPARTMENT OF EDUCATION

Office of Postsecondary Education; Overview Information; Upward Bound Program (Includes Regular Upward Bound (UB), Veterans Upward Bound (VUB) and Upward Bound Math and Science (UBMS)) Notice Inviting Applications for New Awards for Fiscal Year (FY) 2007

Catalog of Federal Domestic Assistance (CFDA) Numbers: 84.047A and 84.047M.

Dates: Applications Available: September 22, 2006.

Deadline for Transmittal of Applications: November 6, 2006.

Deadline for Intergovernmental Review: January 5, 2007.

Eligible Applicants: Institutions of higher education; public or private agencies and organizations; combinations of institutions, agencies, and organizations; and secondary schools under exceptional circumstances, if there is no institution, agency, or organization capable of carrying out an applicable Upward Bound project in the proposed target area.

Estimated Available Funds: The Administration's budget request for FY 2007 does not include funds for the Upward Bound Program. However, we are inviting applications to allow enough time to complete the grant process if Congress appropriates funds for this program.

Estimated Range of Awards: $250,000-$853,000 for year one of UB; $250,000-$543,000 for year one of VUB; and $250,000-$354,000 for year one of UBMS.

Estimated Average Size of Awards: $350,000 for UB; $300,000 for VUB; and $270,000 for UBMS.

Maximum Award: We will not fund any application at an amount exceeding the maximum amounts specified below for a single budget period of 12 months. We may choose not to further consider or review applications with budgets that exceed the maximum amounts specified below, if we conclude, during our initial review of the application, that the proposed goals and objectives cannot be obtained with the specified maximum amount.

For an applicant applying for a new UB, VUB or UBMS grant the maximum award amount is $250,000. For a current grantee applying for a VUB or UBMS grant (to continue funding for a currently funded project), the maximum award amount is the greater of (a) $250,000 or (b) an amount equal to 103 percent of the applicant's currently funded grant award amount for FY 2006.

For a current grantee that did not receive supplemental funds under the UB Expansion Initiative in FY 2006 that is applying for a UB grant, the maximum award amount is the greater of (a) $250,000 or (b) an amount equal to 103 percent of the applicant's currently funded grant award amount for FY 2006. For a current grantee that received supplemental funds under the UB Expansion Initiative in FY 2006 that is applying for a UB grant, the maximum award amount is the greater of (a) $250,000 or (b) an amount equal to 103 percent of the sum of the applicant's currently funded grant award amount plus 50 percent of its UB Expansion Initiative grant award amount for FY 2006.

Estimated Number of Awards: 766 for UB; 42 for VUB; and 128 for UBMS.

Note: The Department is not bound by any estimates in this notice.

Project Period: Up to 60 months. Applicants whose peer review scores are within the highest ten percent of scores of all applicants receiving awards will receive five-year awards. All other successful applicants will receive four-year awards.

Full Text of Announcement

I. Funding Opportunity Description

Purpose of Program: The Upward Bound program is one of seven programs known as the Federal TRIO programs. There are three types of grants under the Upward Bound program: Regular Upward Bound grants; Veterans Upward Bound grants; and Upward Bound Math and Science grants.

The regular Upward Bound projects are designed to generate in participants the skills and motivation necessary for success in education beyond secondary school. The Veterans Upward Bound projects are designed to assist veterans in preparing for a program of postsecondary education. The Upward Bound Math and Science projects are designed to prepare high school students for postsecondary education programs that lead to careers in the fields of math and science.

Priority: This priority is from the notice of final priority for this program published elsewhere in this issue of the Federal Register.

Absolute Priority: For FY 2007, this priority is an absolute priority. Under 34 CFR 75.105(c)(3), we consider only applications for regular Upward Bound Program grants that meet the priority. This priority only applies to the regular UB Program applications. This priority does not apply to the VUB and UBMS competitions.

This priority is: Upward Bound Program Participant Selection and Evaluation.

This priority supports regular Upward Bound Program projects that—

1. Select first-time participants from otherwise eligible students who have completed the 8th grade but not the 10th grade in secondary school, except a student who has previously participated in a regular Upward Bound project may be selected notwithstanding the student's grade level;

2. Select not less than 30 percent of all first-time participants from students who have completed the 8th grade but not the 9th grade in secondary school and who have a “high academic risk for failure.”

“High academic risk for failure” refers to otherwise eligible students who—

a. Have not achieved at the proficient level on State assessments in reading/language arts for grade eight;

b. Have not achieved at the proficient level on State assessments in math for grade eight;

c. Have a grade point average of 2.5 or less (on a 4.0 scale) for the most recent school year for which grade point averages are available; or

d. Have not completed pre-algebra, algebra, or geometry by the end of grade eight, and (in cases in which students are recruited early during grade nine) are not taking algebra or geometry in grade nine.

To meet this priority, an applicant also must agree to conduct its Upward Bound project in a manner consistent with the evaluation that the Department plans to conduct for the Upward Bound Program. An applicant also must agree, if selected to participate in the evaluation, to—

1. Recruit at least twice as many eligible new students in project year 2007-2008 as the grantee plans to serve in its project. Of that larger pool of eligible new students, not less than 30 percent must have completed the 8th grade but not the 9th grade in secondary school and meet the definition of “high academic risk for failure;”

2. Refrain from admitting new students into the Upward Bound project for project year 2007-2008 until the evaluator has completed its data collection and random assignment for those students;

3. Agree that eligible new students will be assigned randomly by the evaluator either to participate in Upward Bound or to serve as part of a control group (not in Upward Bound); and

4. Agree that a student assigned to serve as part of a control group will not be subsequently selected to participate in Upward Bound.

This priority does not apply to the Veterans Upward Bound projects and Upward Bound Math/Science projects.

Program Authority: 20 U.S.C. 1070a-11; 20 U.S.C. 1070a-13.

Applicable Regulations: (a) The Education Department General Administrative Regulations (EDGAR) in 34 CFR parts 74, 75, 77, 79, 80, 82, 85, 86, 97, 98, and 99.

(b) The regulations for this program in 34 CFR part 645.

(c) The notice of final priority for this program published elsewhere in this issue of the Federal Register.

II. Award Information

Type of Award: Discretionary grants.

Estimated Available Funds: The Administration's budget request for FY 2007 does not include funds for the Upward Bound Program. However, we are inviting applications to allow enough time to complete the grant process if Congress appropriates funds for this program.

Estimated Range of Awards: $250,000-$853,000 for year one of UB; $250,000-$543,000 for year one of VUB; and $250,000-$354,000 for year one of UBMS.

Estimated Average Size of Awards: $350,000 for UB; $300,000 for VUB; and $270,000 for UBMS.

Maximum Award: We will not fund any application at an amount exceeding the maximum amounts specified below for a single budget period of 12 months. We may choose not to further consider or review applications with budgets that exceed the maximum amounts specified below, if we conclude, during our initial review of the application, that the proposed goals and objectives cannot be obtained with the specified maximum amount.

For an applicant applying for a new UB, VUB or UBMS grant the maximum award amount is $250,000. For a current grantee applying for a VUB or UBMS grant (to continue funding for a currently funded project), the maximum award amount is the greater of (a) $250,000 or (b) an amount equal to 103 percent of the applicant's currently funded grant award amount for FY 2006.

For a current grantee that did not receive supplemental funds under the UB Expansion Initiative in FY 2006, that is applying for a UB grant, the maximum award amount is the greater of (a) $250,000 or (b) an amount equal to 103 percent of the applicant's currently funded grant award amount for FY 2006. For a current grantee that received supplemental funds under the UB Expansion Initiative in FY 2006 that is applying for a UB grant, the maximum award amount is the greater of (a) $250,000 or (b) an amount equal to 103 percent of the sum of the applicant's currently funded grant award amount plus 50 percent of its UB Expansion Initiative grant award amount for FY 2006.

Estimated Number of Awards: 766 for UB; 42 for VUB; and 128 for UBMS.

Note: The Department is not bound by any estimates in this notice.

Project Period: Up to 60 months. Applicants whose peer review scores are within the highest ten percent of scores of all applicants receiving awards will receive five-year awards. All other successful applicants will receive four-year awards.

III. Eligibility Information

1. Eligible Applicants: Institutions of higher education; public or private agencies and organizations; combinations of institutions, agencies, and organizations; and secondary schools under exceptional circumstances, if there is no institution, agency, or organization capable of carrying out an applicable Upward Bound project in the proposed target area.

2. Cost Sharing or Matching: This program does not involve cost sharing or matching.

3. Other: An applicant may submit more than one application, if each separate application describes a project that will serve students at different target schools and/or target populations. A secondary school applicant must submit a certification that there is no other eligible entity in the proposed target area that is capable of carrying out a UB program project.

IV. Application and Submission Information

1. Address to Request Application Package: Gaby Watts, U.S. Department of Education, 1990 K Street, NW., suite 7000, Washington, DC 2006-8510. Telephone: (202) 502-7600 or by e-mail: TRIO@ed.gov.

If you use a telecommunications device for the deaf (TDD), you may call the Federal Relay Service (FRS) at 1-800-877-8339.

Individuals with disabilities may obtain a copy of the application package in an alternative format (e.g., Braille, large print, audiotape, or computer diskette) by contacting one of the program contact persons listed in this section.

2. Content and Form of Application Submission: Requirements concerning the content of an application, together with the forms you must submit, are in the application package and instructions for this program.

Page Limit: The Program Narrative is where you, the applicant, address the selection criteria that reviewers use to evaluate your application. You must limit the section of the narrative that addresses the selection criteria to the equivalent of no more than 50 pages, using the following standards:

• A “page” is 8.5″ x 11″, on one side only, with 1″ margins at the top, bottom, and both sides. Page numbers and an identifier may be within the 1″ margin.

• Double space (no more than three lines per vertical inch) all text in the application narrative, except titles, headings, footnotes, quotations, references, captions and all text in charts, tables, and graphs may be single spaced.

• Use one or more of the following fonts: Times New Roman, Courier, Courier New or Arial. Applications submitted in any other font (including Times Roman and Arial Narrow) will be rejected.

• Use not less than 12-point font.

The page limit does not apply to Part I, the Application for Federal Assistance face sheet (SF 424); the supplemental information form required by the Department of Education; Part II, the budget information summary form (ED Form 524); and Part IV, the assurances and certifications. The page limit also does not apply to a table of contents. If you include any attachments or appendices not specifically requested, these items will be counted as part of the Program Narrative (Part III) for purposes of the page limit requirement. You must include your complete response to the selection criteria in the Program Narrative.

We will reject your application if—

• You apply these standards and exceed the page limit; or

• You apply other standards and exceed the equivalent of the page limit.

3. Submission Dates and Times: Applications Available: September 22, 2006.

Deadline for Transmittal of Applications: November 6, 2006.

Applications for grants under this program must be submitted electronically using the Grants.gov Apply site (Grants.gov). For information (including dates and times) about how to submit your application electronically or by mail or hand delivery if you qualify for an exception to the electronic submission requirement, please refer to Section IV. 6. Other Submission Requirements in this notice.

We do not consider an application that does not comply with the deadline requirements.

Deadline for Intergovernmental Review: January 9, 2007.

4. Intergovernmental Review: This program is subject to Executive Order 12372 and the regulations in 34 CFR part 79. Information about Intergovernmental Review of Federal Programs under Executive Order 12372 is in the application package for this program.

5. Funding Restrictions: We reference the regulations outlining funding restrictions in the Applicable Regulations section of this notice.

6. Other Submission Requirements: Applications for grants under this program must be submitted electronically unless you qualify for an exception to this requirement in accordance with the instructions in this section.

a. Electronic Submission of Applications. Applications for grants under the Upward Bound Program—CFDA Number 84.047A and 84.047M must be submitted electronically using the Grants.gov Apply site at: http://www.grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Upward Bound Program at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at: http://e-Grants.ed.gov/help/GrantsgovSubmissionProcedures.pdf.

• To submit your application via Grants.gov, you must complete all the steps in the Grants.gov registration process (see http://www.grants.gov/applicants/get_registered.jsp). These steps include (1) registering your organization, (2) registering yourself as an Authorized Organization Representative (AOR), and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to successfully submit an application via Grants.gov.

• You will not receive additional point value because you submit your application in electronic format, nor will we penalize you if you qualify for an exception to the electronic submission requirement, as described elsewhere in this section, and submit your application in paper format.

• You must submit all documents electronically including all information typically included on the Application for Federal Education Assistance (SF 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of Technical Issues with the Grants.gov System: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact either of the persons listed elsewhere in this notice under For Further Information Contact, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Geraldine Smith, U.S. Department of Education, 1990 K Street, NW., suite 7000, Washington, DC 20006-8510. FAX: (202) 502-7857.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.047A or 84.047M), 400 Maryland Avenue, SW., Washington, DC 20202-4260.

or

By mail through a commercial carrier: U.S. Department of Education, Application Control Center—Stop 4260, Attention: (CFDA Number 84.047A or 84.047M),7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.047A or 84.047M), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the Application for Federal Education Assistance (SF 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this program are from 34 CFR 645.31 and are listed in the application package.

Note: Under the “Objectives” selection criteria, all evaluation points will be awarded based upon the extent to which the applicant's proposed objectives are determined to be both ambitious and attainable. Applicants are advised to take this into account when preparing their applications. In responding to the “Objectives” criteria, applicants should explain why their proposed objectives are ambitious and attainable and provide data to support that explanation. The peer reviewers will determine the extent to which the objectives are both ambitious and attainable based upon the data and explanations the applicant provides in the Need for the project, Plan of operation, and Budget and cost effectiveness sections of the application. The UB, UBMS, and VUB Program Profile pages in the application package detail specific information that applicants must submit regarding these objectives.

2. Review and Selection Process: The Secretary will select an application for funding in rank-order, based on the application's total score for the selection criteria and prior experience, pursuant to 34 CFR 645.31 and 645.32. If there are insufficient funds for two or more applications with the same total scores, the Secretary will choose among the tied applications so as to serve geographical areas that have been underserved by the UB Program.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The success of the UB program is measured by the percentage of UB participants, both higher risk and overall, who enroll in postsecondary institutions.

VII. Agency Contact

FOR FURTHER INFORMATION CONTACT: Gaby Watts, U.S. Department of Education, 1990 K Street, NW., suite 7000, Washington, DC 20006-8510. Telephone: (202) 502-7600 or by e-mail: TRIO@ed.gov.

If you use a telecommunications device for the deaf (TDD), you may call the Federal Relay Service (FRS) at 1-800-877-8339.

Individuals with disabilities may obtain this document in an alternative format (e.g., Braille, large print, audiotape, or computer diskette) on request to one of the program contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: September 19, 2006.
James F. Manning,
Acting Assistant Secretary for Postsecondary Education.

[FR Doc. 06-8102 Filed 9-21-06; 8:45 am]

BILLING CODE 4000-01-P